DEPARTMENT OF COMMERCE

International Trade Administration

[A-533-810]

Stainless Steel Bar From India; Final Results, Rescission of Antidumping Duty Administrative Review in Part, and Determination To Revoke in Part

AGENCY: Import Administration, International Trade Administration, Department of Commerce.

ACTION: Notice of final results of antidumping duty administrative review.

SUMMARY: On March 8, 2004, the Department of Commerce published the preliminary results of the administrative review of the antidumping duty order on stainless steel bar from India (69 FR 10666). This review covers seven manufacturers/exporters of the subject merchandise to the United States. The period of review is February 1, 2002, through January 31, 2003. We are rescinding the review with respect to Ferro Alloys Corp., Ltd. and Mukand, Ltd. because they withdrew their requests for review within the time limit specified under 19 CFR 351.213(d)(1). Finally, we have determined to revoke the antidumping duty order with respect to Viraj Alloys, Ltd., Viraj Forgings, Ltd., and Viraj Impoexpo, Ltd.

Based on our analysis of the comments received, we have made changes in the margin calculations. Therefore, the final results differ from the preliminary results. The final weighted-average dumping margins for the reviewed firms are listed below in the section entitled “Final Results of Review.”

EFFECTIVE DATE: September 14, 2004.

FOR FURTHER INFORMATION CONTACT: Greg Kalbaugh, Office of AD/CVD Enforcement, Office 2, Import Administration, International Trade Administration, U.S. Department of Commerce, 14th Street and Constitution Avenue, NW., Washington, DC, 20230; telephone (202) 482-3693.

SUPPLEMENTARY INFORMATION:

Background

This review covers the following seven manufacturers/exporters: Chandan Steel Limited (Chandan); Ferro Alloys Corp. Ltd. (FACOR); Isibars Limited (Isibars); Mukand, Ltd. (Mukand); Jyoti Steel Industries (Jyoti); Venus Wire Industries Limited; and Viraj Alloys, Ltd., Viraj Forgings, Ltd., and Viraj Impoexpo, Ltd. (collectively “Viraj”).

On March 8, 2004, the Department of Commerce (the Department) published in the Federal Register the preliminary results of administrative review of the antidumping duty order on stainless steel bar (SSB) from India. See Stainless Steel Bar From India; Preliminary Results of Antidumping Duty Administrative Review, Notice of Partial Rescission of Administrative Review, and Notice of Intent To Revoke in Part, 69 FR 10666 (Mar. 8, 2004) (Preliminary Results).

We invited parties to comment on our preliminary results of review. In April 2004, we received case briefs from the petitioners (i.e., Carpenter Technology Corp., Crucible Specialty Metals Division of Crucible Materials Corp., Electralloy Corp., Slater Steels Corp., Empire Specialty Steel and the United Steelworkers of America (AFL-CIO/CLC)), Chandan, and Viraj, and rebuttal briefs from the petitioners and Viraj.

The Department has conducted this administrative review in accordance with section 751 of the Tariff Act of 1930, as amended (the Act).

Scope of the Order

Imports covered by this review are shipments of SSB. SSB means articles of stainless steel in straight lengths that have been either hot-rolled, forged, turned, cold-drawn, cold-rolled or otherwise cold-finished, or ground, having a uniform solid cross section along their whole length in the shape of circles, segments of circles, ovals, rectangles (including squares), triangles, hexagons, octagons, or other convex polygons. SSB includes cold-finished SSBs that are turned or ground in straight lengths, whether produced from hot-rolled bar or from straightened and cut rod or wire, and reinforcing bars that have indentations, ribs, grooves, or other deformations produced during the rolling process.

Except as specified above, the term does not include stainless steel semi-finished products, cut length flat-rolled products (i.e., cut length rolled products which if less than 4.75 mm in thickness have a width measuring at least 10 times the thickness, or if 4.75 mm or more in thickness having a width which exceeds 150 mm and measures at least twice the thickness), wire (i.e., cold-formed products in coils, of any uniform solid cross section along their whole length, which do not conform to the definition of flat-rolled products), and angles, shapes, and sections.

The SSB subject to these reviews is currently classifiable under subheadings 7222.11.00.05, 7222.11.00.50, 7222.19.00.05, 7222.19.00.50, 7222.20.00.05, 7222.20.00.45, 7222.20.00.75, and 7222.30.00.00 of the Harmonized Tariff Schedule of the United States (HTSUS). Although the HTSUS subheadings are provided for convenience and customs purposes, our written description of the scope of this order is dispositive.

Period of Review

The period of review (POR) is February 1, 2002, through January 31, 2003.

Partial Rescission of Review

On April 7, 2003, and May 9, 2003, respectively, Mukand and FACOR withdrew their requests for an administrative review. Because the petitioners did not request an administrative review of either FACOR or Mukand and both of these parties withdrew their requests within the time limit specified under 19 CFR 351.213(d)(1), we are rescinding our review with respect to these companies. (See Preliminary Results, 69 FR at 10667).

Cost of Production

As discussed in the Preliminary Results, we conducted an investigation to determine whether the respondents participating in the review made home market sales of the foreign like product during the POR at prices below their costs of production (COPs) within the meaning of section 773(b)(1) of the Act. We performed the cost test for these final results following the same methodology as in the Preliminary Results, except as discussed in the accompanying “Issues and Decision Memorandum” (Decision Memo) from Jeffrey A. May, Deputy Assistant Secretary, AD/CVD Operations, to James J. Jochum, Assistant Secretary for Import Administration, dated September 7, 2004.

We found 20 percent or more of Venus's and Viraj's sales of a given product during the reporting period were at prices less than the weighted-average COP for this period. Thus, we determined that these below-cost sales were made in “substantial quantities” within an extended period of time and at prices which did not permit the recovery of all costs within a reasonable period of time in the normal course of trade. See sections 773(b)(2)(B), (C), and (D) of the Act.

Therefore, for purposes of these final results, we found that Venus and Viraj made below-cost sales not in the ordinary course of trade. Consequently, we disregarded these sales for each respondent and used the remaining sales as the basis for determining normal value, pursuant to section 773(b)(1) of the Act.

Facts Available

In the preliminary results, we determined that, in accordance with section 776(a)(2)(A) of the Act, the use of facts available was appropriate as the basis for the dumping margins for the following producer/exporters: Chandan, Isibars, and Jyoti. We find that it continues to be appropriate to apply facts available to these respondents. Section 776(a)(2) of the Act provides that if an interested party: (A) Withholds information that has been requested by the Department; (B) fails to provide such information in a timely manner or in the form or manner requested, subject to subsections 782(c)(1) and (e) of the Act; (C) significantly impedes a determination under the antidumping statute; or (D) provides such information but the information cannot be verified, as provided in subsection 782(i) of the Act, the Department shall, subject to subsection 782(d) of the Act, use facts otherwise available in reaching the applicable determination. As in the preliminary results, the Department must use facts otherwise available with regard to Isibars pursuant to sections 776(a)(2)(A) and (B) of the Act. For Chandan and Jyoti, as in the preliminary results, the Department finds that we must resort to facts otherwise available in reaching our final results, pursuant to sections 776(a)(2)(A), (B), and (C) of the Act.

See Preliminary Results 69 FR 10668-10670, for a detailed discussion of the facts regarding each of these respondents, as well the Decision Memo at Comment 1 for further discussion of the use of facts available for Chandan.

Adverse Facts Available

In selecting from among the facts otherwise available, section 776(b) of the Act authorizes the Department to use an adverse inference if the Department finds that an interested party failed to cooperate by not acting to the best of its ability to comply with the request for information. See, e.g., Notice of Final Determination of Sales of Less Than Fair Value and Final Negative Critical Circumstances: Carbon and Certain Alloy Steel Wire Rod From Brazil, 67 FR 55792, 55794-96 (Aug. 30, 2002). Each of the respondents was notified in the Department's questionnaires that failure to submit the requested information by the date specified might result in use of facts available. Generally, it is reasonable for the Department to assume that Chandan, Isibars, and Jyoti possessed the records necessary for this administrative review and that, by not supplying the information the Department requested, these companies failed to cooperate to the best of their ability. In addition, neither Isibars or Jyoti argued that it was incapable of providing the information the Department requested, and we found that the necessary records were within Chandan's control (see the Decision Memo at Comment 1). Accordingly, because Chandan, Isibars, and Jyoti failed to submit useable sales and/or cost information which was not only specifically requested by the Department but also fundamental to the dumping analysis, and the missing information was within the respondents' control, we have assigned these companies margins based on total adverse facts available (AFA), consistent with sections 776(a)(2)(A), (B), and (C) and 776(b) of the Act.

As AFA for Chandan, Isibars, and Jyoti, we have used the highest rate ever assigned to any respondent in any segment of this proceeding. This rate is 21.02 percent. We find that this rate, which was the rate alleged in the petition and assigned in the investigation segment of this proceeding, is sufficiently high as to effectuate the purpose of the facts available rule (i.e., we find that this rate is high enough to encourage participation in future segments of this proceeding). (This margin was also assigned to Mukand in the most recently completed segment of the proceeding. See Stainless Steel Bar From India; Final Results of Antidumping Duty Administrative Review, 68 FR 47543 (Aug. 11, 2003) (2001-2002 SSB AR Final). See also Extruded Rubber Thread from Malaysia; Final Results of Antidumping Duty Administrative Review, 63 FR 12752, 12762-3 (Mar. 16, 1998).) We continue to find that the information upon which this margin is based has sufficient probative value to satisfy the requirements of section 776(c) of the Act. See Preliminary Results, 69 FR 10670.

Revocation

On February 28, 2003, Viraj requested revocation of the antidumping duty order with respect to its sales of the subject merchandise, pursuant to 19 CFR 351.222(b). In a subsequent submission, Viraj provided each of the certifications required under 19 CFR 351.222(e).

The Department may revoke, in whole or in part, an antidumping duty order upon completion of a review under section 751 of the Act. While Congress has not specified the procedures that the Department must follow in revoking an order, the Department has developed a procedure for revocation that is described in 19 CFR 351.222. This regulation requires, inter alia, that a company requesting revocation must submit the following: (1) A certification that the company has sold the subject merchandise at not less than normal value (NV) in the current review period and that the company will not sell subject merchandise at less than NV in the future; (2) a certification that the company sold commercial quantities of the subject merchandise to the United States in each of the three years forming the basis of the request; and (3) an agreement to immediate reinstatement of the order if the Department concludes that the company, subsequent to the revocation, sold subject merchandise at less than NV. See 19 CFR 351.222(e)(1). Upon receipt of such a request, the Department will consider: (1) Whether the company in question has sold subject merchandise at not less than NV for a period of at least three consecutive years; (2) whether the company has agreed in writing to its immediate reinstatement in the order, as long as any exporter or producer is subject to the order, if the Department concludes that the company, subsequent to the revocation, sold the subject merchandise at less than NV; and (3) whether the continued application of the antidumping duty order is otherwise necessary to offset dumping. See 19 CFR 351.222(b)(2)(i).

In the preliminarily results, we found that the request from Viraj met all of the criteria under 19 CFR 351.222. We continue to find that this is the case for Viraj. With regard to the criteria of subsection 19 CFR 351.222(b)(2), our final margin calculations show that Viraj sold SSB at not less than NV during the current review period. See dumping margins below. In addition, Viraj sold SSBs at not less than NV in the two previous administrative reviews in which it was involved (i.e., Viraj's dumping margin was zero or de minimis). See 2001-2002 SSB AR Final, 68 FR 47543, covering the period February 1, 2001, through January 31, 2002, and Notice of Amended Final Results of Antidumping Duty Administrative Review: Stainless Steel Bar From India, 67 FR 53336 (Aug. 15, 2002), covering the period February 1, 2000, through January 31, 2001.

Based on our examination of the sales data submitted by Viraj, we determine that it sold the subject merchandise in the United States in commercial quantities in each of the consecutive years cited by Viraj to support its request for revocation. Thus, we find that Viraj had zero or de minimis dumping margins for its last three administrative reviews and sold in commercial quantities in each of these years. Additionally, we find that the continued application of the antidumping order is not otherwise necessary to offset dumping. See the Decision Memo at Comment 3. Therefore, we determine that Viraj qualifies for revocation of the order on SSB pursuant to 19 CFR 351.222(b)(2) and that the order with respect to merchandise produced and exported by Viraj should be revoked. In accordance with 19 CFR 351.222(f)(3), we are terminating the suspension of liquidation for any of the merchandise in question that is entered, or withdrawn from warehouse, for consumption on or after February 1, 2003, and will instruct U.S. Customs and Border Protection (CBP) to refund any cash deposits for such entries.

The petitioners have requested that the Department not revoke the order with respect to Viraj pending the resolution of outstanding litigation. However, we disagree with the petitioners because the evidence currently before us shows that Viraj has met each of the criteria set forth in 19 CFR 351.222. See the Decision Memo at Comment 3 for further discussion.

Analysis of Comments Received

All issues raised in the case and rebuttal briefs by parties to this administrative review and to which we have responded are listed in the Appendix to this notice and addressed in the Decision Memo, which is adopted by this notice. Parties can find a complete discussion of all issues raised in this review and the corresponding recommendations in this public memorandum, which is on file in the Central Records Unit, room B-099, of the main Department building. In addition, a complete version of the Decision Memo can be accessed directly on the Web at http://ia.ita.doc.gov/frn/index.html. The paper copy and electronic version of the Decision Memo are identical in content.

Changes Since the Preliminary Results

Based on our analysis of comments received, we have made certain changes in the margin calculations. These changes are discussed in the relevant sections of the Decision Memo.

Final Results of Review

We determine that the following weighted-average margin percentages exist for the period February 1, 2002, through January 31, 2003:

Manufacturer/producer/exporter | Margin percentage
Chandan Steel Limited | 21.02
Isibars Limited | 21.02
Jyoti Steel Industries | 21.02
Venus Wire Industries Limited | 0.06
Viraj Alloys, Ltd., Viraj Forgings, Ltd. and Viraj ImpoExpo, Ltd. | 0.00

The Department will determine, and CBP shall assess, antidumping duties on all appropriate entries. In accordance with 19 CFR 351.212(b)(1), for Venus and Viraj, for those sales with a reported entered value, we have calculated importer-specific assessment rates based on the ratio of the total amount of antidumping duties calculated for the examined sales to the total entered value of those sales.

Regarding certain of Venus's sales, for assessment purposes, we do not have the information to calculate entered value because Venus was not the importer of record for the subject merchandise. Accordingly, we have calculated importer-specific assessment rates for the merchandise in question by aggregating the dumping margins calculated for all U.S. sales to each importer and dividing this amount by the total quantity of those sales.

Pursuant to 19 CFR 351.106(c)(2), we will instruct CBP to liquidate without regard to antidumping duties any entries for which the assessment rate is de minimis (i.e., less than 0.50 percent). To determine whether Venus's per-unit duty assessment rates were de minimis, in accordance with the requirement set forth in 19 CFR 351.106(c)(2), we calculated importer-specific ad valorem ratios based on the export prices.

For Chandan, Isibars, and Jyoti, we will instruct CBP to liquidate entries at the rates indicated above.

The Department will issue appraisement instructions directly to CBP within 15 days of publication of these final results of review.

Cash Deposit Requirements

Because we have revoked the order with respect to Viraj's exports of subject merchandise, we will order the Customs Service to terminate the suspension of liquidation for exports of such merchandise entered, or withdrawn from warehouse, for consumption on or after February 1, 2003, and to refund all cash deposits collected.

The following deposit requirements will be effective upon publication of this notice of final results of administrative review for all shipments of SSB from India entered, or withdrawn from warehouse, for consumption on or after the date of publication, as provided by section 751(a)(1) of the Act: (1) The cash deposit rates for the reviewed companies will be the rates indicated above (except for Venus, where no cash deposit will be required); (2) for previously investigated companies not listed above, the cash deposit rate will continue to be the company-specific rate published for the most recent period; (3) if the exporter is not a firm covered in this review, or the less-than-fair-value (LTFV) investigation, but the manufacturer is, the cash deposit rate will be the rate established for the most recent period for the manufacturer of the merchandise; and (4) the cash deposit rate for all other manufacturers or exporters will continue to be 12.45 percent, the all others rate established in the LTFV investigation.

These deposit requirements, when imposed, shall remain in effect until publication of the final results of the next administrative review.

This notice also serves as a final reminder to importers of their responsibility under 19 CFR 351.402(f) to file a certificate regarding the reimbursement of antidumping duties prior to liquidation of the relevant entries during this review period. Failure to comply with this requirement could result in the Secretary's presumption that reimbursement of antidumping duties occurred and the subsequent assessment of doubled antidumping duties.

This notice also serves as the only reminder to parties subject to administrative protective order (APO) of their responsibility concerning the disposition of proprietary information disclosed under APO in accordance with 19 CFR 351.305(a)(3). Timely notification of return/destruction of APO materials or conversion to judicial protective order is hereby requested. Failure to comply with the regulations and the terms of an APO is a sanctionable violation.

We are issuing and publishing this determination and notice in accordance with sections 751(a)(1) and 777(i) of the Act.

Dated: September, 7, 2004.
James J. Jochum,
Assistant Secretary for Import Administration.

Appendix—Issues in Decision Memo

Comments

1. Use of Total Adverse Facts Available (AFA) for Chandan.

2. Use of Total AFA for Viraj.

3. Revocation for Viraj.

4. Cost of Production (COP) Data for VFL.

5. Depreciation Expenses for Viraj.

6. Interest Expenses for Viraj.

7. Waived Interest Expenses for Viraj.

[FR Doc. E4-2188 Filed 9-13-04; 8:45 am]

BILLING CODE 3510-DS-P